ENVIRONMENTAL PROTECTION AGENCY

[FRL-7775-2]

Sadler Drum Superfund Site; Notice of Proposed Settlement

AGENCY: Environmental Protection Agency (EPA).

ACTION: Notice of proposed settlement.

SUMMARY: The United States Environmental Protection Agency is proposing to enter into a settlement for the partial reimbursement of past response costs, pursuant to section 122(h)(1) of the Comprehensive Environmental Response, Compensation, and Liability Act, as amended (“CERCLA”), 42 U.S.C. 9622(h)(1), concerning the Sadler Drum Superfund Site in Mulberry, Polk County, Florida. The Agency will consider public comments on the proposed settlement until July 19, 2004. The Agency will consider all comments received and may modify or withdraw its consent to the settlement if comments received disclose facts or considerations which indicate that the settlement is inappropriate, improper, or inadequate. Copies of the proposed settlement are available from: Paula V. Batchelor, WMD-SEIMB, U.S. EPA, Region 4, 61 Forsyth Street, SW., Atlanta, GA 30303, (404) 562-8887, Batchelor.Paula@.EPA.GOV.

Written comments may be submitted to Ms. Batchelor within 30 calendar days of the date of this publication.

Dated: May 18, 2004.
Anita Davis,
Acting Chief, Superfund Enforcement & Information Management Branch, Waste Management Division, Region 4.

[FR Doc. 04-13854 Filed 6-17-04; 8:45 am]

BILLING CODE 6560-50-P